DEPARTMENT OF HEALTH AND HUMAN SERVICES

[CMS-9963-NC]

Request for Domains, Instruments, and Measures for Development of a Standardized Instrument for Use in Public Reporting of Enrollee Satisfaction With Their Qualified Health Plan and Exchange

AGENCY: Centers for Medicare & Medicaid Services (CMS), HHS.

ACTION: Notice.

SUMMARY: The Patient Protection and Affordable Care Act (the Affordable Care Act) requires the Department of Health and Human Services (HHS) to establish an enrollee satisfaction survey system to be administered to members of each qualified health plan offered through an Exchange. This notice solicits input on publicly-available domains (for example, broad functional areas such as access, communication, coordination of care, customer service), instruments, and measures for measuring the level of enrollee satisfaction with qualified health plans plus the experience of the consumer interacting with the health care system and the experience of the consumer interacting with the Exchange (for example, enrollment and customer service) from consumers, researchers, vendors, health plans, Exchanges, stakeholders, and other interested parties.

DATES: Input is sought by June 29, 2012.

ADDRESSES: Electronic submissions are encouraged, preferably as an email with an electronic file in a standard word processing format as an email attachment. Submissions may also be in the form of a letter to: Kathleen Jack, Center for Consumer Information and Insurance Oversight, Centers for Medicare & Medicaid Services, 7500 Security Blvd., Mailstop: C5-17-16, Windsor Mill, MD 21244, Phone: (410) 786-7214, Email: Kathleen.Jack@cms.hhs.gov.

FOR FURTHER INFORMATION CONTACT: Kathleen Jack, 410-786-7214.

SUPPLEMENTARY INFORMATION:

I. Background

On March 23, 2010, the President signed into law the Patient Protection and Affordable Care Act (Pub. L. 111-148). On March 30, 2010, the Health Care and Education Reconciliation Act of 2010 (Pub. L. 111-152) was signed into law. The two laws are collectively referred to as the Affordable Care Act. The Affordable Care Act creates new competitive private health insurance marketplaces, Affordable Insurance Exchanges (Exchanges), that will give millions of Americans and small businesses access to quality, affordable coverage.

Section 1311(c)(4) of the Affordable Care Act directs HHS to establish an enrollee satisfaction survey system to be administered to members of each qualified health plan (QHP) offered through an Exchange. In addition, 45 CFR 156.200(b)(5) (77 FR 18310, at 18469 (Mar. 27, 2012)) requires implementation of the enrollee satisfaction survey as part of QHP certification requirements. Consistent with our intent that QHP-specific quality ratings would be available in 2016 open enrollment for the 2017 coverage year, HHS intends to propose that the enrollee satisfaction survey be implemented in 2016 and available for display on the Internet portal for every Exchange in 2016 open enrollment for the 2017 coverage year. This call for domains, instruments, and measures is occurring now because of the multi-phased survey development and testing process necessary before full implementation.

II. Consumer Survey

The Centers for Medicare & Medicaid Services (CMS) is soliciting the submission of publicly-available domains,¹ instruments and measures for capturing the experience of the consumer with a QHP offered through an Exchange. HHS is considering how the scope of the enrollee satisfaction survey may also include the experience of the consumer interacting with the health care system as well as the experience of the consumer interacting with the Exchange (for example, enrollment and customer service). CMS is soliciting the submission of publicly-available domains, instruments and measures for assessing this experience as well. On both issues, CMS is interested in instruments and items which can measure quality of care from the consumer's perspective and track changes over time.

¹ The Agency for Healthcare Research and Quality (AHRQ) defines domains for the purposes of the Consumer Assessment of Healthcare Providers and Systems (CAHPS) survey as “broad functional areas.” See https://www.cahps.ahrq.gov/About-CAHPS/Glossary.aspx (last accessed May 18, 2012).

The target population for the enrollee satisfaction survey is the Exchange enrollees (i.e., individuals enrolled in QHPs). Exchange enrollees may differ from the populations who are currently commercially-insured in their experience with health coverage and the health care system, health literacy, and knowledge of quality care. CMS is looking for items for which (1) the people who received care are the best or only judge and (2) consumers and patients identified the information as important to them; for example, enrollees can best acknowledge if the QHP/Exchange met their information needs or explained things in ways they can understand. Existing instruments that have been tested should have a high degree of reliability and validity; evidence of wide use will be helpful.

Section 1311(c)(4) of the of the Affordable Care Act directs that the enrollee satisfaction survey will “evaluate the level of enrollee satisfaction with qualified health plans offered through an Exchange, for each qualified health plan that had more than 500 enrollees in the previous year.” CMS is developing this survey system and intends to submit it to the Agency for Healthcare Research and Quality (AHRQ) for recognition as a Consumer Assessment of Healthcare Providers and Systems (CAHPS®) survey. CAHPS® is a registered trademark of AHRQ. The survey will be developed in accordance with CAHPS® Survey Design Principles and implementation instructions will be based on those for CAHPS® instruments (https://www.cahps.AHRQ.gov/About-CAHPS/Principles.aspx). Using the CAHPS® mark is advantageous because it assures consumers and stakeholders that the survey data submitted meet the original validity and reliability standards reported by the CAHPS® program and are comparable to data from other competing organizations. We intend for the enrollee satisfaction survey to be a trademarked CAHPS® survey to ensure efficacy of the enrollee satisfaction survey and to ultimately reduce issuer burden by streamlining potential Exchange and State reporting requirements. All CAHPS® surveys are available to users free of charge and are published on the CMS or AHRQ Web sites.

III. Submission Guidelines

When submitting domains, include, to the extent available:

• Detailed descriptions of question domain and specific purpose.

• Sample questions, in all available languages.

• Relevant peer-reviewed journal articles or full citations.

When submitting instruments, submitter shall include, to the extent available:

• Name of the instrument.

• Copies of the full instrument in all available languages.

• Domains included in the instrument.

• Measures derived from the instrument.

• Instrument reliability (internal consistency, test-retest, etc) and validity (content, construct, criterion-related).

• Results of cognitive testing.

• Results of field testing.

• Current use of the instrument (who is using it, what it is being used for, what population it is being used with, how instrument findings are reported, and by whom the findings are used).

• Relevant peer-reviewed journal articles or full citations.

• CAHPS® trademark status.

• Survey administration instructions.

• Data analysis instructions.

• Guidelines for reporting survey data.

When submitting measures, submitter shall include, to the extent available:

• Measure characteristics.

• Importance of the measure.

• Populations addressed by the measure.

• Measure reliability (internal consistency, test-retest, etc.) and validity (content, construct, criterion-related).

• Results of cognitive testing.

• Results of field testing.

• Current use of the measure (who is using it, what it is being used for, how measure finding are reported, and by whom the findings are used).

• Status of the National Quality Forum (NQF) endorsement and NQF number.

All submissions include:

• A brief cover letter summarizing the information requested above for submitted instruments and domains, respectively and how the submission will help fulfill the intent of the enrollee satisfaction survey;

• (Optional) Complete information about the person submitting the material for the purposes of follow up questions about the submission, including:

++ Name

++ Title

++ Organization

++ Mailing address

++ Telephone number

++ Email address

• Indication that the domain, instrument or measure is publicly-available.

Dated: May 15, 2012.
Marilyn Tavenner,
Acting Administrator, Centers for Medicare & Medicaid Services.
Approved: June 14, 2012.
Kathleen Sebelius,
Secretary.

[FR Doc. 2012-15162 Filed 6-18-12; 11:15 am]

BILLING CODE 4120-01-P